DEPARTMENT OF HEALTH AND HUMAN SERVICES

Administration for Children and Families

Proposed Information Collection Activity; Request for Assistance for Child Victims of Human Trafficking

AGENCY: Office on Trafficking in Persons, Administration for Children and Families, Department of Health and Human Services.

ACTION: Request for public comments.

SUMMARY: The Administration for Children and Families (ACF), Office on Trafficking in Persons (OTIP) is requesting a three-year extension of the form: Request for Assistance (RFA) for Child Victims of Human Trafficking (Office of Management and Budget (OMB) #0970-0362, expiration 09/30/2024). Burden estimates have been updated based on observed increases in the volume of requests received. The RFA form and estimated time per response remains the same.

DATES: Comments due within 60 days of publication. In compliance with the requirements of the Paperwork Reduction Act of 1995, ACF is soliciting public comment on the specific aspects of the information collection described above.

ADDRESSES: You can obtain copies of the proposed collection of information and submit comments by emailing infocollection@acf.hhs.gov. Identify all requests by the title of the information collection.

SUPPLEMENTARY INFORMATION:

Description: The Trafficking Victims Protection Act (TVPA) of 2000, as amended, directs the Secretary of the U.S. Department of Health and Human Services (HHS), upon receipt of credible information that a foreign national minor may have been subjected to a severe form of trafficking in persons and is seeking assistance available to victims of trafficking, to promptly determine if the child is eligible for benefits and services to the same extent as refugees. HHS delegated this authority to OTIP.

OTIP developed a RFA form for case managers, attorneys, law enforcement officers, child welfare workers, and other representatives to report these trafficking concerns to HHS in accordance with the TVPA of 2000, as amended, and allow for OTIP to review the concerns and determine eligibility for benefits.

Specifically, the RFA form asks the requester for their identifying information, identifying information for the child, and information describing the potential trafficking concerns. The RFA form takes into consideration the need to compile information regarding a child's experiences in a trauma-informed and child-centered manner and assists the requester in assessing whether the child may have been subjected to a severe form of trafficking in persons.

The information provided through the completion of a RFA form enables OTIP to make prompt determinations regarding a foreign national minor's eligibility for assistance, facilitate the required consultation process should the minor receive interim assistance, and enable OTIP to assess and address potential child protection issues. OTIP also uses the information provided to respond to congressional inquiries, fulfill federal reporting requirements, and inform policy and program development that is responsive to the needs of victims.

In 2019, OTIP launched Shepherd, an online case management system, to process requests for assistance and certification on behalf of foreign national minor and adult victims of trafficking. If a requester encounters issues submitting a request through Shepherd, they may submit the RFA form to OTIP as a password protected PDF to childtrafficking@acf.hhs.gov.

Respondents: Representatives of governmental entities, members of the community, and nongovernmental entities providing social, legal, or protective services to foreign national minors in the United States who may have been subjected to severe forms of trafficking in persons. Furthermore, representatives within the community with a concern that a foreign national minor may have been subjected to severe forms of trafficking in persons may also use the RFA form.

Annual Burden Estimates

Increased awareness of reporting requirements under the TVPA of 2000, as amended among providers who serve foreign national children and youth has resulted in sustained, year-over-year increases in the number of RFA forms received by OTIP since fiscal year 2021. While the number of RFA forms received by OTIP each year largely reflects OTIP's efforts to engage case managers, attorneys, law enforcement officers, child welfare workers, and other representatives who serve foreign national children and youth, the number of RFA forms received is also impacted by a variety of social, political, and environmental factors that impact migration trends, including natural disasters and other climate-mediated events, that fluctuate each year. In fiscal year 2021, a record number of unique individuals (2,178) were referred to OTIP through 2,650 total RFA forms. In fiscal year 2022, 3,150 unique individuals were referred to OTIP through 3,709 total RFA forms. In fiscal year 2023, 3,612 unique individuals were referred to OTIP through 4,052 total RFA forms. There are no changes proposed to the RFA form but based on the increased need for trafficking-specific case management services among foreign national children and youth, as evidenced through sustained increases in the volume of RFA forms received by OTIP each year since fiscal year 2021, burden estimates for this collection have been revised.

Instrument | Total number of respondents | Total number of responses per respondent | Average burden hours per response | Total burden hours | Annual burden hours
Request for Assistance for Child Victims of Human Trafficking | 10,500 | 1 | 1 | 10,500 | 3,500

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 22 U.S.C. 7105(b).

Mary C. Jones,
ACF/OPRE Certifying Officer.

[FR Doc. 2024-04931 Filed 3-7-24; 8:45 am]

BILLING CODE 4184-47-P